DEPARTMENT OF THE INTERIOR

National Park Service

Rock Creek Park; Notice of extension of public comment period for the Draft Environmental Impact Statement and White-tailed Deer Management Plan for Rock Creek Park

AGENCY: Department of the Interior, National Park Service.

ACTION: Notice of Extension of Public Comment Period for Draft Environmental Impact Statement and White-tailed Deer Management Plan for Rock Creek Park, Washington, DC.

SUMMARY: The National Park Service (NPS) is extending the public comment period through November 2, 2009, for the Draft Environmental Impact Statement (DEIS) and White-tailed Deer Management Plan for Rock Creek Park.

DATES: Comments must be received by November 2, 2009.

ADDRESSES: You may submit written comments by the following methods:

• Electronically, using the online comment form available on the NPS Planning, Environment and Public Comment (PEPC) Web site at http://parkplanning.nps.gov/rocr by selecting the link “Deer Management Plan for Rock Creek Park.”

• In writing, addressed to: Superintendent, Rock Creek Park, 3545 Williamsburg Lane, NW., Washington, DC 20008.

The DEIS and White-tailed Deer Management Plan is available electronically at the website above, and bound copies are also available at the Rock Creek Nature Center, 5200 Glover Road, NW., Washington DC; at Rock Creek Park Headquarters, 3545 Williamsburg Lane, NW., Washington, DC; and at public libraries adjacent to Rock Creek Park.

Before including your address, phone number, e-mail address, or other personal identifying information in your comment, you should be aware that your entire comment—including your personal identifying information—may be made publicly available at any time. While you can ask us in your comment to withhold your personal identifying information from public review, we cannot guarantee that we will be able to do so. If you previously submitted comments on the DEIS and White-tailed Deer Management Plan, please do not resubmit them, as your comments are already incorporated into the public record and will be fully considered in our final decision.

FOR FURTHER INFORMATION CONTACT: Adrienne A. Coleman, Superintendent, Rock Creek Park, at 3545 Williamsburg Lane, NW., Washington, DC 20008, or by telephone at (202) 895-6000.

Dated: September 24, 2009.
Margaret O'Dell,
Regional Director, National Capital Region.

[FR Doc. E9-23706 Filed 9-30-09; 8:45 am]

BILLING CODE P